ENVIRONMENTAL PROTECTION AGENCY

[FRL-9957-59-OW]

Notice of Open Meeting of the Environmental Financial Advisory Board (EFAB)

AGENCY: Environmental Protection Agency (EPA).

ACTION: Notice of open meeting.

SUMMARY: The EPA's Environmental Financial Advisory Board (EFAB) will hold a public meeting on February 21-22, 2017. EFAB is an EPA advisory committee chartered under the Federal Advisory Committee Act to provide advice and recommendations to EPA on creative approaches to funding environmental programs, projects, and activities.

The purpose of this meeting is to hear from informed speakers on environmental finance issues, proposed legislation, and EPA priorities. Additional discussion will focus on activities, progress, and preliminary recommendations with regard to current EFAB work projects and to consider request for assistance from EPA offices. Environmental finance discussions and presentations are expected on, but not limited to, the following topics: Public-private partnerships for water infrastructure projects, decentralized wastewater systems, materials conservation and recycling, and lead risk reduction. The meeting is open to the public; however, seating is limited. All members of the public who wish to attend the meeting must register in advance, no later than Monday, February 6, 2017. Registration is required for all members of the public to ensure an expeditious security process.

DATES: The full board meeting will be held Tuesday, February 21, 2017 from 1:30 p.m.-5:00 p.m., and Wednesday, February 22, 2017 from 9:00 a.m.-5:00 p.m.

ADDRESSES: District Architecture Center, 421 7th Street NW., Washington, DC 20004.

FOR FURTHER INFORMATION CONTACT: For information on access or services for individuals with disabilities, or to request accommodations for a disability, please contact Sandra Williams at (202) 564-4999 or williams.sandra@epa.gov, at least 10 days prior to the meeting to allow as much time as possible to process your request.

Andrew D. Sawyers,
Director, Office of Wastewater Management, Office of Water.

[FR Doc. 2016-31448 Filed 12-28-16; 8:45 am]

BILLING CODE 6560-50-P